DEPARTMENT OF AGRICULTURE

Forest Service

Directive Publication Notice

AGENCY: Forest Service, Agriculture (USDA).

ACTION: Notice.

SUMMARY: The Forest Service, U.S. Department of Agriculture, provides direction to employees through issuances in its Directive System, comprised of the Forest Service Manual and Forest Service Handbooks. The Agency must provide public notice of and opportunity to comment on any directives that formulate standards, criteria, and guidelines applicable to Forest Service programs. Once per quarter, the Agency provides advance notice of proposed and interim directives that will be made available for public comment during the next three months, proposed and interim directives that were previously published for public comment but not yet finalized and issued during the last three months, and notice of final directives issued in the last three months.

DATES: This notice identifies proposed and interim directives that will be published for public comment between July 1, 2022, and September 30, 2022; proposed and interim directives that were previously published for public comment but not yet finalized and issued; and final directives that have been issued since April 1, 2022.

ADDRESSES: Questions or comments may be provided by email to SM.FS.Directives@usda.gov or in writing to 201 14th Street SW, Washington, DC 20250, Attn: Directives and Regulations staff, Mailstop 1132.

FOR FURTHER INFORMATION CONTACT: Jay Lowe at 703-231-8079 or james.lowe@usda.gov.

Individuals who use telecommunications devices for the deaf or hard of hearing (TDD) may call the Federal Relay Service (FRS) at 800-877-8339 24 hours a day, every day of the year, including holidays.

You may register to receive email alerts at https://www.fs.usda.gov/about-agency/regulations-policies.

SUPPLEMENTARY INFORMATION:

Proposed and Interim Directives

Consistent with 16 U.S.C. 1612(a) and 36 CFR part 216, Public Notice and Comment for Standards, Criteria and Guidance Applicable to Forest Service Programs, the Forest Service publishes for public comment Agency directives that formulate standards, criteria, and guidelines applicable to Forest Service programs. Agency procedures for providing public notice and opportunity to comment are specified in Forest Service Handbook (FSH) 1109.12, Chapter 30, Providing Public Notice and Opportunity to Comment on Directives.

The following proposed directives are planned for publication for public comment from July 1, 2022, to September 30, 2022:

1. FSH 2409.12, Timber Cruising Handbook, Chapters 30, Cruising Systems; 40, Cruise Planning, Data Recording, and Cruise Reporting; 60, Quality Control; and 70, Designating Timber for Cutting.

2. FSH 2409.15, Timber Sale Administration Handbook, Chapters 20, Measuring and Accounting for Included Timber; 40, Rates and Payments; and 60, Operations and Other Provisions.

The primary method of public outreach for these proposed directives is publication on the Forest Service website at https://www.fs.usda.gov/about-agency/regulations-policies, publication in the Federal Register, use of the GovDelivery email service, and other Agency communications resources, which may include a press release, blog post, or social media.

Previously Published Directives That Have Not Been Finalized

The following proposed and interim directives have been published for public comment but have not yet been finalized:

1. Forest Service Manual (FSM) 2200, Rangeland Management, Chapters Zero Code; 2210, Rangeland Management Planning; 2220, Management of Rangelands (Reserved); 2230, Grazing Permit System; 2240, Rangeland Improvements; 2250, Rangeland Management Cooperation; and 2270, Information Management and Reports; FSH 2209.13, Grazing Permit Administration Handbook, Chapters 10, Term Grazing Permits; 20, Grazing Agreements; 30, Temporary Grazing and Livestock Use Permits; 40, Livestock Use Permits; 50, Tribal Treaty Authorizations and Special Use Permits; 60, Records; 70, Compensation for Permittee Interests in Rangeland Improvements; 80, Grazing Fees; and 90, Rangeland Management Decision Making; and Forest Service Handbook 2209.16, Allotment Management Handbook, Chapter 10, Allotment Management and Administration.

2. FSM 3800, Landscape Scale Restoration Program.

Final Directives That Have Been Issued Since April 1, 2022

1. FSM 2710, Special Use Authorizations, and FSH 2709.11, Special Uses Handbook, Chapter 50, Standard Forms and Supplemental Clauses. The Forest Service published final directives related to the storage and use of explosives authorized by special use authorizations. Some special use permit holders use various types of explosives and sometimes military munitions for avalanche mitigation, tree and rock removal, road construction, maintenance, and other construction projects. Holders of ski area permits and state transportation authorities maintain additional magazines for these purposes.

The final directives clarify the role and jurisdiction of the Bureau of Alcohol, Tobacco, Firearms and Explosives (ATF), the Department of the Army, states, and the Forest Service over explosives use and storage when authorized on National Forest System lands, including explosives magazine security. These directives provide that special use authorization holders that are authorized to store and use explosives must comply with all ATF regulations, state and Army requirements, if applicable, and Forest Service requirements. The directives make compliance with the special use authorization contingent upon continued compliance with these requirements. The directives provide for training of permit administrators to ensure that they can effectively monitor the requirements of a holder's operating plan, including required magazine security provisions. The 60-day comment period for this directive began June 23, 2020, and closed August 22, 2020. Five public comments were received on the proposed directives, which can be viewed at https://cara.fs2c.usda.gov/Public/ReadingRoom?project=ORMS-2226. The final directives were issued May 12, 2022, and can be viewed at https://www.fs.fed.us/im/directives/fsh/2709.11/wo_2709.11_50_Amend%202022-2.docx https://www.fs.fed.us/im/directives/fsm/2700/wo_2710_Amend-2022-2.docx.

2. FSM 7700, Travel Management, Chapters Zero and 10, Travel Planning. The Forest Service has issued final directives that clarify how electric bicycles (e-bikes) are managed on National Forest System lands. The directives add a definition of e-bikes as a class of motor vehicle, including separate definitions for Class 1, 2 and 3 e-bikes; establish criteria for consideration in designating National Forest System roads, National Forest System trails, and areas on National Forest System lands for e-bike use that are not currently designated for motor vehicle use; update the definition of “bicycle,” and align Forest Service directives with regulations promulgated by the U.S. Department of the Interior bureaus by adding e-bike definitions and requiring site-specific decision-making and environmental analysis. The 30-day comment period for these directives began September 24, 2020, and closed October 26, 2020. Over 9,140 public comments were received on the proposed directives, which can be viewed at https://cara.fs2c.usda.gov/Public/ReadingRoom?project=ORMS-2619. Approximately 6,020 were unique letters; only five percent included substantive comments. The final directives provide for managing all classes of e-bikes as motor vehicles and require local-level decision-making and environmental analysis to allow use of e-bikes on non-motorized trails, consistent with the Forest Service's Travel Management Rule. The final directives were issued March 31, 2022, and can be viewed at https://www.fs.fed.us/im/directives/fsm/7700/wo_7700-Amend-2022-1_updated.docx. https://www.fs.fed.us/im/directives/fsm/7700/wo_7710-Amend-2022-2_updated.docx.

Dated: July 7, 2022.
James Lowe,
Acting Branch Chief, Directives and Regulations, Business Operations.

[FR Doc. 2022-14777 Filed 7-11-22; 8:45 am]

BILLING CODE 3411-15-P